DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361 or carlos.graham@samhsa.hhs.gov.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology.

Proposed Project: Programs To Reduce Underage Drinking—(OMB No. 0930-0316)—Revision

The Sober Truth on Preventing Underage Drinking Act (the “STOP Act”) was passed by Congress in 2006, reauthorized in December 2016 as part of the 21st Century Cures Act (Pub. L. 114-255) and the Consolidated Appropriations Act, 2023 (Pub. L. 117-328), and codified into law in 42 U.S.C. 290bb-25b: Programs to reduce underage drinking. The STOP Act contains four primary elements:

1. The award of community-based coalition enhancement grants for underage drinking prevention activities to eligible entities currently receiving funds under the Drug-Free Communities Act of 1997.

2. A national adult-oriented media public service campaign to prevent underage drinking (“Talk. They Hear You.” (TTHY), and an annual report to Congress evaluating the campaign.

3. An annual report to Congress summarizing federal prevention activities and the extent of progress in reducing underage drinking nationally, including data from national surveys conducted by federal agencies.

4. An annual report to Congress “on each State's performance in enacting, enforcing, and creating laws, regulations, and programs to prevent or reduce underage drinking.” The State Survey that is the subject of this request gathers data used to develop the state-by-state report on prevention and enforcement activities related to underage drinking

Driven by the legislation and coordinated by the Interagency Coordinating Committee on the Prevention of Underage Drinking (ICCPUD), each of these activities work together to prevent and reduce underage drinking. The Interagency Coordinating Committee on the Prevention of Underage Drinking (ICCPUD) provides national leadership in federal policy and programming to support state and community activities that prevent and reduce underage drinking. The data collection activities described in this package serve to assess the outputs and outcomes of public health messaging and interventions. The three data collection activities outlined in this package are:

1. The STOP Act State Survey: An annual survey mandated by the STOP Act legislation sent to an individual designated by the governor of all 50 states and the mayor of the District of Columbia;

2. The ICCPUD Alcohol Policy Academy Evaluation: An assessment of coalition capacity and workforce development throughout a 12 month Alcohol Policy Academy; and

3. The Parents Night Out Evaluation; An assessment of changes in knowledge, skills, and confidence of parents and caregivers after receiving the training and materials for Parents Night Out and TTHY products.

The STOP Act State Survey

The STOP Act states that the “Secretary [of Health and Human Services] shall . . . annually issue a report on each state's performance in enacting, enforcing, and creating laws, regulations, and programs to prevent or reduce underage drinking.” The Secretary has delegated responsibility for this report to SAMHSA. Therefore, SAMHSA has developed a “Survey of State Underage Drinking Prevention Policies, Programs, and Practices” (the “State Survey”) to provide input for the state-by-state report on prevention and enforcement activities related to the underage drinking component of the “Annual Report to Congress on the Prevention and Reduction of Underage Drinking” (“Report to Congress”).

Congress' purpose in mandating the collection of data on state policies, programs, and practices through the State Survey is to provide policymakers and the public with otherwise unavailable but much needed information regarding state underage drinking prevention policies and programs. SAMHSA and other federal agencies that have underage drinking prevention as part of their mandate use the results of the State Survey to inform federal programmatic priorities, as do other stakeholders, including community organizations. The information gathered by the State Survey has established a resource for state agencies and the public for assessing policies and programs in their own state and for becoming familiar with the policies, programs, practices, and funding priorities of other states.

SAMHSA has determined that data on Categories #2 and #3 mandated in the STOP Act (as listed on page 2) (enforcement and educational programs; programs targeting youth, parents, and caregivers) as well as states' collaborations with tribal governments, use of social marketing or counter-advertising campaigns, state-level interagency collaborations, and prevention workforce development activities are not available from secondary sources and therefore must be collected from the states themselves. The State Survey is therefore necessary to fulfill the Congressional mandate found in the STOP Act. Furthermore, the uniform collection of these data from the states over the last fifteen years has created a valuable longitudinal dataset, and the State Survey's renewal is vital to maintaining this resource.

The State Survey is a single document that is divided into three sections: (1) Enforcement of underage drinking laws; (2A) Underage drinking prevention programs targeted to youth, parents, and caregivers, including data on the approximate number of persons served by these programs; (2B) State collaborations and best practices; (2C) Interagency collaborations and state participation in social marketing media campaigns intended to reduce underage drinking; and (3) Workforce development activities, including strategies and funds expended on recruiting and retaining a behavioral health workforce.

SAMHSA collects the required data using an online survey data collection platform. Links to the survey are distributed to states via email. The State Survey is sent to each state governor's office and the Office of the Mayor of the District of Columbia. SAMHSA provides both telephone and electronic technical support to state agency staff and emphasizes that the states are expected to provide data from existing state databases and other data sources available to them. The burden estimate below considers these assumptions.

The estimated annual response burden to collect this information is as follows:

Instrument | Number of respondents | Responses/ respondent | Total responses | Hours per response | Total hour burden | Wage rate | Total hour cost
State Survey | 51 | 1 | 51 | 18.5 | 943.50 | $28.07 | $26,484.05

The ICCPUD Alcohol Policy Academy Evaluation

The Policy Academy strives to reduce and prevent underage and excessive drinking by increasing the capacity of community coalitions to modify the community context through the policy process. The Policy Academy includes 14 coalitions from across the U.S., with two individuals from each coalition serving as the Academy participants. The Policy Academy evaluation is designed to measure the effectiveness of increasing coalition capacity through the training and coaching of the policy process. Additionally, the evaluation will measure the increase in the policy training workforce through a coaches and mentee development pipeline. The scope of the evaluation is limited to measuring the impact of the Policy Academy curriculum on participants and coaches.

The evaluation is comprised of seven surveys and one focus group. Surveys are conducted after each monthly training and coaching call. The participant surveys seek feedback on changes in knowledge, skills, and confidence after each training or coaches call, as well as feedback on the training content and training/coaching provider. The coach surveys track the progress of the coalitions. These surveys take the participants and coaches approximately 5-10 minutes each. The participants will also complete a baseline survey, a 12-month survey, and an 18-month survey. These surveys assess whether participants reach their own goals during the Policy Academy, how they share their knowledge and skills gained, and how they continue to progress in the policy process. All surveys will be fielded using a web-based survey tool. The focus group with the cohort will collect qualitative data from the participants on their experience and efforts to incorporate health equity into their policy campaign.

Table 2 indicates the estimated total annual burden on the participants and coaches of the Policy Academy. The survey estimates include reading the instructions and questions and responding to each question. The focus group is scheduled for one hour, and includes introductions, instructions, posing of questions, and open discussion.

The estimated annual response burden to collect this information is as follows:

Instrument | Number of respondents | Responses/ respondent | Total responses | Hours per response | Total hour burden | Wage rate | Total hour cost
Focus Group | 28 | 1 | 28 | 1 | 28 | $27.10 | $758.80
Participant Post-Coaching Call Survey | 28 | 11 | 308 | 0.125 | 38.5 | 27.10 | 1,043.35
Participant Post-Training Call Survey | 28 | 10 | 280 | 0.125 | 35 | 27.10 | 948.50
Coach Post-Coaching Call Survey | 3 | 77 | 231 | 0.17 | 39.27 | 50.00 | 1,963.50
Baseline | 28 | 1 | 28 | 0.67 | 18.76 | 27.10 | 508.40
Follow-Up | 28 | 1 | 28 | 1 | 28 | 27.10 | 758.80
Six-Month Follow-Up | 28 | 1 | 28 | 0.67 | 18.76 | 27.10 | 508.40

“Talk. They Hear You.” Parents Night Out Evaluation

The “Talk. They Hear You” campaign is comprised of a variety of tools and resources designed to decrease underage drinking by encouraging parents and caregivers, educators, and community members/organizations to proactively engage youth in conversations about alcohol another other drugs. Research has demonstrated that active and engaged adults can reduce underage drinking.¹ One TTHY mechanism to engage parents and caregivers is through Parents' Night Out (PNO).

¹ Glenn, S.D., Turrisi, R., Mallett, K.A., Waldron, M.S., Lenker, L.K. (2024). Examination of Brief Parent-Based Interventions to Reduce Drinking Outcomes on a Nationally Representative Sample of Teenagers. Journal of Adolescent Health, 74(3) 449-457. https://doi.org/10.1016/j.jadohealth.2023.09.010.

The PNO Evaluation will assess changes in knowledge, skills, and confidence of parents and caregivers after receiving the training and materials for PNO and TTHY products. This evaluation will be delivered in partnership with community partners, who will be exposed to varying combinations of PNO and materials to determine change before and after exposure. The information gleaned in a survey of parents and caregivers will allow the evaluation team to assess whether PNO is being implemented as intended, and which products are most useful in increasing parents' and caregivers' capacity and intentions. The results will be shared with the implementation team for PNO curriculum modifications and for updating TTHY materials.

PNO data will be collected from participants through a survey delivered via email using Qualtrics. Completing the survey is not a requirement of the event, but an option to provide feedback to the campaign team. Collecting data through Qualtrics will improve the participant experience and allow them to quickly provide feedback. The distribution of the PNO Evaluation survey will be facilitated by local organizations who host a PNO event. They will be provided with the link to the survey and will be asked to spend a few moments of the presentation to share the link The TTHY campaign team will develop, distribute, and support the survey.

Table 4 indicates the estimated total annual burden on the participants of PNO. The survey estimates include reading the instructions and questions and responding to each question, and totals 7 minutes. The wage rate was determined based on the highest state minimum wage, as site locations have not yet been identified.

The estimated annual response burden to collect this information is as follows:

Instrument | Number of respondents | Responses/ respondent | Total responses | Hours per response | Total hour burden | Wage rate | Total hour cost
PNO Evaluation Survey | 150 | 1 | 150 | 0.12 | 18 | $16.28* | $293.04
* https://www.dol.gov/agencies/whd/minimum-wage/state.

Send comments to Alicia Broadus, SAMHSA Public Health Advisor at alicia.broadus@samhsa.hhs.gov. Written comments should be received by August 5, 2024.

Alicia Broadus,
Public Health Advisor.

[FR Doc. 2024-14681 Filed 7-3-24; 8:45 am]

BILLING CODE 4162-20-P